DEPARTMENT OF STATE

[Public Notice 7891; OMB Control Number 1405-0098; Form Number DSP-0122]

60-Day Notice of Proposed Information Collection: Supplemental Registration for the Diversity Immigrant Visa Program

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Supplemental Registration for the Diversity Immigrant Visa Program.

• OMB Control Number: 1405-0098.

• Type of Request: Extension.

• Originating Office: CA/VO/L/R.

• Form Number: DSP-0122.

• Respondents: Diversity Visa applicants.

• Estimated Number of Respondents: 60,000.

• Estimated Number of Responses: 60,000.

• Average Hours per Response: 30 minutes.

• Total Estimated Burden: 30,000 hours.

• Frequency: Once per application.

• Obligation to Respond: Required to obtain benefit.

DATES: The Department will accept comments from the public up to 60 days from May 21, 2012.

ADDRESSES: • Web: Persons with access to the Internet may view and comment on this notice by going to the Federal regulations Web site at www.regulations.gov. You can search for the document by: selecting “Notice” under Document Type, entering the Public Notice number as the “Keyword or ID”, checking the “Open for Comment” box, and then click “Search”. If necessary, use the “Narrow by Agency” option on the Results page.

• Mail (paper, or CD-ROM submissions): Chief, Legislation and Regulations Division, Visa Services—DSP-0122, 2401 E. Street NW., Washington DC 20520-30106.

You must include the DS form number (if applicable), information collection title, and OMB control number in any correspondence.

FOR FURTHER INFORMATION CONTACT: Direct requests for additional information regarding the collection listed in this notice, including requests for copies of the proposed information collection and supporting documents, to Sydney Taylor, Visa Services, U.S. Department of State, 2401 E. Street NW., L-603, Washington, DC 20522, who may be reached at taylors2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Each time the Diversity Visa lottery is conducted, the Kentucky Consular Center (KCC) will register the randomly selected entries and send the applicants an Instruction Package for Immigrant Visa Applicants, which consists of DS-122 (Supplemental Registration for the Diversity Immigrant Visa Program) and DS-230 (Application for Immigrant Visa and Alien Registration Part I and II). In order for an applicant to be considered for a visa, the applicant must complete and return both of the above-mentioned forms to KCC. Upon receipt of these forms, KCC will transmit the Immigrant Visa Appointment Package to the US Embassy or Consulate and schedule an appointment for the applicant.

Methodology

Applicants must return the completed form to the KCC via mail.

Dated: May 10, 2012.
Edward Ramotowski,
Managing Director, Visa Services, Bureau of Consular Affairs, Department of State.

[FR Doc. 2012-12252 Filed 5-18-12; 8:45 am]

BILLING CODE 4701-06-P